NUCLEAR REGULATORY COMMISSION

Sunshine Act Meeting

AGENCY HOLDING THE MEETING: Nuclear Regulatory Commission.

DATES: Weeks of August 27, September 3, 10, 17, 24, October 1, 2001.

PLACE: Commissioners' Conference Room, 11555 Rockville Pike, Rockville, Maryland.

STATUS: Public and Closed.

MATTERS TO BE CONSIDERED:

Week of August 27, 2001

There are no meetings scheduled for the Week of August 27, 2001.

Week of September 3, 2001—Tentative

There are no meetings scheduled for the Week of September 3, 2001.

Week of September 10, 2001—Tentative

There are no meetings scheduled for the Week of September 10, 2001.

Week of September 17, 2001—Tentative

There are no meetings scheduled for the Week of September 17, 2001.

Week of September 24, 2001—Tentative

Friday, September 28, 2001

9:25 a.m.—Affirmation Session (Public Meeting) (if needed)

9:30 a.m.—Briefing on Decommissioning Activities and Status (Public Meeting) (Contact: John Buckley, 301-415-6607)

1:30 p.m.—Briefing on Threat Environment Assessment (Closed—Ex. 1)

Week of October 1, 2001—Tentative

Thursday, October 4, 2001

9:25 a.m.—Affirmation Session (Public Meeting) (if needed)

* The schedule for Commission meetings is subject to change on short notice. To verify the status of meetings call (recording)—(301) 415-1292. Contact person for more information: David Louis Gamberoni (301) 415-1651.

Additional Information

By a vote of 4-0 on August 15, the Commission determined pursuant to U.S.C. 552b(e) and § 9.107(a) of the Commission's rules that “Affirmation on Final Rule: Interim Storage for Greater than Class C Waste, 10 CFR Parts 30, 70, 72, and 150” be held on August 22, and on less than one week's notice to the public.

By a vote of 4-0 on August 21 and 22, the Commission determined pursuant to U.S.C. 552b(e) and § 9.107(a) of the Commission's rules that “Affirmation of Consolidated Edison Company of New York, Entergy Nuclear Indian Point 2, LLC, and Entergy Nuclear Operations, Inc.; Decision on Standing and Admissibility of Contentions in License Transfer Proceeding” be held on August 22, and on less than one week's notice to the public.

The NRC Commission Meeting Schedule can be found on the Internet at: http://www.nrc.gov/SECY/smj/schedule.htm

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: August 23, 2001.
David Louis Gamberoni,
Technical Coordinator, Office of the Secretary.

[FR Doc. 01-21831 Filed 8-24-01; 2:05 pm]

BILLING CODE 7590-01-M